DEPARTMENT OF COMMERCE

Foreign-Trade Zones Board

[B-45-2019]

Foreign-Trade Zone (FTZ) 38—Spartanburg County, South Carolina; Notification of Proposed Production Activity; ZF Chassis Systems Duncan, LLC, (Automotive Suspension Systems), Duncan, South Carolina

ZF Chassis Systems Duncan, LLC (ZF Chassis) submitted a notification of proposed production activity to the FTZ Board for its facility in Duncan, South Carolina. The notification conforming to the requirements of the regulations of the FTZ Board (15 CFR 400.22) was received on July 23, 2019.

ZF Chassis already has authority to produce automotive suspension systems within FTZ 38. The current request would add foreign status materials/components to the scope of authority. Pursuant to 15 CFR 400.14(b), additional FTZ authority would be limited to the specific foreign-status materials/components described in the submitted notification (as described below) and subsequently authorized by the FTZ Board.

Production under FTZ procedures could exempt ZF Chassis from customs duty payments on the foreign-status materials/components used in export production. On its domestic sales, for the foreign-status materials/components noted below, ZF Chassis would be able to choose the duty rates during customs entry procedures that apply to automotive suspension systems (2.5%). ZF Chassis would be able to avoid duty on foreign-status components which become scrap/waste. Customs duties also could possibly be deferred or reduced on foreign-status production equipment.

The materials/components sourced from abroad include: Plastic fittings for tubes, pipes, and hoses; plastic mounting clips; paper and paperboard labels; iron or steel self-tapping screws; steel threaded nuts; steel non-threaded clips; copper non-threaded screws and bolts; copper threaded nuts and plugs; vacuum pipes; steel check valves; wheel speed sensors/ABS sensors; insulated wiring sets; plastic cable trays; steel front axle carriers; drive axles with differentials; steering boxes; steering columns; steering gears; steering wheels; angle joint assemblies for front axles; and, level sensors (duty rate ranges from duty-free to 8.6%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is September 9, 2019.

A copy of the notification will be available for public inspection in the “Reading Room” section of the Board's website, which is accessible via www.trade.gov/ftz.

For further information, contact Juanita Chen at juanita.chen@trade.gov or 202-482-1378.

Dated: July 24, 2019.
Elizabeth Whiteman,
Acting Executive Secretary.

[FR Doc. 2019-16158 Filed 7-29-19; 8:45 am]

BILLING CODE 3510-DS-P